COMMISSION ON CIVIL RIGHTS

Sunshine Act Notice

Date and Time: Friday, March 18, 2005, 9:30 a.m.

Place: U.S. Commission on Civil Rights, 624 9th Street, NW., Room 540, Washington, DC 20425.

Status:

Agenda

I. Approval of Agenda

II. Approval of Minutes of February 18, 2005 Meeting

III. Announcements

IV. Staff Director's Report

V. Program Planning

• Consideration of proposals for projects to be undertaken by the Commission during FY 2005, 2006 and 2007

VI. Management and Operations

VII. Report of the Working Group on Reform

VIII. Future Agenda Items

CONTACT FOR FURTHER INFORMATION: Kenneth L. Marcus, Press and Communications (202) 376-7700.

Debra A. Carr,
General Counsel.

[FR Doc. 05-4851 Filed 3-8-05; 1:38 pm]

BILLING CODE 6335-01-M